CONSUMER PRODUCT SAFETY COMMISSION

[Docket No. CPSC-2012-0054]

Agency Information Collection Activities; Extension of Collection; Safety Standard for Automatic Residential Garage Door Operators

AGENCY: Consumer Product Safety Commission.

ACTION: Notice of information collection; request for comment.

SUMMARY: As required by the Paperwork Reduction Act of 1995 (PRA), the Consumer Product Safety Commission (CPSC or Commission) announces that the Commission has submitted to the Office of Management and Budget (OMB) a request for extension of approval of information collection requirements associated with the Safety Standard for Automatic Residential Garage Door Operators. OMB previously approved the collection of information under control number 3041-0125. OMB's most recent extension of approval will expire on September 30, 2025. On June 23, 2025, CPSC published a notice in the Federal Register to announce the agency's intention to seek extension of approval of the collection of information. The Commission received one, out of scope, public comment. Therefore, by publication of this notice, the Commission announces that CPSC has submitted to the OMB a request for extension of approval of that collection of information.

DATES: Submit comments on the collection of information by October 14, 2025.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. Written comments that are sent to OMB also should be submitted electronically at http://www.regulations.gov, under Docket No. CPSC-2012-0054.

FOR FURTHER INFORMATION CONTACT: Cynthia Gillham, Consumer Product Safety Commission, 4330 East-West Highway, Bethesda, MD 20814; (301) 504-7791, or by email to: pra@cpsc.gov.

SUPPLEMENTARY INFORMATION: CPSC seeks to renew the following currently approved collection of information:

Title: Standard for Automatic Residential Garage Door Operators.

OMB Number: 3041-0125.

Type of Review: Renewal of collection.

Frequency of Response: On occasion.

Affected Public: Manufacturers, importers, and private labelers of automatic residential garage door operators.

General Description of Collection: On December 22, 1992, the Commission issued rules prescribing requirements for a reasonable testing program to support certificates of compliance with the Safety Standard for Automatic Residential Garage Door Operators (57 FR 60449). These regulations also require manufacturers, importers, and private labelers of residential garage door operators to establish and maintain records to demonstrate compliance with the requirements for testing to support certification of compliance. 16 CFR part 1211, subparts B and C.

Estimated Number of Respondents: An estimated 17 firms that conduct performance tests and maintain records based on the test results to retain Underwriters Laboratories, Inc. (UL) certification and verify compliance with the rule.

Estimated Time per Response: Based on staff's review of industry sources, each respondent will spend an estimated 40 hours (35 hours for PRA burden associated with testing and 5 hours for recordkeeping) annually on the collection of information related to the rule.

Total Estimated Annual Burden: 680 hours (17 firms × 40 hours).

Total Estimated Annual Cost to Respondents: Using compensation data available from the U.S. Bureau of Labor Statistics (BLS), Employer Costs for Employee Compensation (December 2024, https://www.bls.gov/news.release/archives/ecec_03142025.pdf), staff estimates that the total annual cost of the PRA burden associated with the testing requirement is estimated to be about $45,101, based on an hourly rate of $75.80 as total compensation for management, professional, and related occupations in goods-producing private industries (17 firms × 35 hours × $75.80). Staff also estimates that the total annual cost of the recordkeeping burden is estimated to be about $3,472 based on an hourly rate of $40.85 for sales and office workers (17 firms × 5 hours × $40.85). Therefore, the total burden cost is about $48,573 ($45,101 + $3,472). This estimate includes professional and clerical time that may be spent to retrieve product data from automated or other records systems, explain firm practices/policies intended to assure compliance with the standard, or accompany Commission personnel during inspections.

Alberta E. Mills,
Secretary, Consumer Product Safety Commission.

[FR Doc. 2025-17665 Filed 9-11-25; 8:45 am]

BILLING CODE 6355-01-P